DEPARTMENT OF THE INTERIOR

Minerals Management Service

Agency Information Collection Activities: Submitted for Office of Management and Budget (OMB) Review; Comment Request

AGENCY: Minerals Management Service (MMS), Interior.

ACTION: Notice of extension and revision of a currently approved information collection (OMB Control Number 1010-0050).

SUMMARY: To comply with the Paperwork Reduction Act of 1995 (PRA), we are notifying the public that we have submitted to OMB an information collection request (ICR) to renew approval of the paperwork requirements in the regulations under 30 CFR part 250, subpart J, Pipelines and Pipeline Rights-of-Way and related documents. This notice also provides the public a second opportunity to comment on the paperwork burden of these regulatory requirements and related form.

DATES: Submit written comments by December 16, 2002.

ADDRESSES: You may submit comments directly to the Office of Information and Regulatory Affairs, OMB, Attention: Desk Officer for the Department of the Interior (1010-0050), 725 17th Street, NW., Washington, DC 20503. Mail or hand-carry a copy of your comments to the Department of the Interior; Minerals Management Service; Attention: Rules Processing Team; Mail Stop 4024; 381 Elden Street; Herndon, Virginia 20170-4817. If you wish to E-mail your comments to MMS, the address is: rules.comments@MMS.gov. Reference Information Collection 1010-0050 in your subject line. Include your name and return address, and mark your message for return receipt.

FOR FURTHER INFORMATION CONTACT: Alexis London, Rules Processing Team, telephone (703) 787-1600. You may also contact Alexis London to obtain a copy at no cost of the regulations and form MMS-2030 that require the subject collection of information.

SUPPLEMENTARY INFORMATION: Title: 30 CFR part 250, Subpart J, Pipelines and Pipeline Rights-of-Way.

Form Number: MMS-2030, Outer Continental Shelf (OCS) Right-of-Way Grant Bond.

OMB Control Number: 1010-0050, incorporating 1010-0134.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Section 1334(e) authorizes the Secretary to grant rights-of-way through the submerged lands of the OCS for pipelines “for the transportation of oil, natural gas, sulphur, or other minerals, or under such regulations and upon such conditions as may be prescribed by the Secretary, * * * including (as provided in section 1347(b) of this title) assuring maximum environmental protection by utilization of the best available and safest technologies, including the safest practices for pipeline burial. * * *”

The Independent Offices Appropriations Act (31 U.S.C. 9701) authorizes Federal agencies to recover the full cost of services that provide special benefits. Under the Department of the Interior's (DOI) policy implementing the IOAA, MMS is required to charge the full cost for services that provide special benefits or privileges to an identifiable non-Federal recipient above and beyond those which accrue to the public at large. Pipeline rights-of-way and assignments are subject to cost recovery and MMS regulations specify filing fees for applications.

This notice concerns the reporting and recordkeeping elements of 30 CFR part 250, subpart J and related forms and NTLs. OMB approved the information collection requirements in current subpart J regulations under control numbers 1010-0050 and 1010-0134. The first is the primary collection for subpart J. The latter was approved in connection with a final rule amending § 250.1000(c) to clarify regulatory issues involving the 1996 Memorandum of Understanding between DOI and the Department of Transportation (DOT). Our submission will consolidate these two subpart J collections under 1010-0050. Responses are mandatory or are required to obtain or retain a benefit. No questions of a “sensitive” nature are asked. MMS will protect proprietary information according to 30 CFR 250.196 (Data and information to be made available to the public), 30 CFR part 252 (OCS Oil and Gas Information Program), and the Freedom of Information Act (5 U.S.C. 552) and its implementing regulations (43 CFR part 2).

The lessees and transmission companies design the pipelines that they install, maintain, and operate. To ensure those activities are performed in a safe manner, MMS needs information concerning the proposed pipeline and safety equipment, inspections and tests, and natural and manmade hazards near the proposed pipeline route. MMS field offices use the information collected under subpart J to review pipeline designs prior to approving an application for a right-of-way or a pipeline permitted under a lease to ensure that the pipeline, as constructed, will provide for safe transportation of minerals through the submerged lands of the OCS. They review proposed routes of a right-of-way to ensure that the right-of-way, if granted, would not conflict with any State requirements or unduly interfere with other OCS activities. MMS field offices review plans for taking pipeline safety equipment out of service to ensure alternate measures are used that will properly provide for the safety of the pipeline and associated facilities (platform, etc.). They review notification of relinquishment of a right-of-way grant and requests to abandon pipelines to ensure that all legal obligations are met and pipelines are properly abandoned. MMS inspectors monitor the records on pipeline inspections and tests to ensure safety of operations and protection of the environment and to schedule their workload to permit witnessing and inspecting operations. Information is also necessary to determine the point at which DOI or DOT has regulatory responsibility for a pipeline and to be informed of the responsible operator if not the same as the right-of-way holder.

Frequency: The frequency of reporting is on occasion or annual.

Estimated Number and Description of Respondents: Approximately 130 Federal OCS oil, gas, and sulphur lessees and 115 pipeline right-of way holders.

Estimated Reporting and Recordkeeping “Hour” Burden: The estimated annual hour burden for the consolidated 30 CFR part 250, subpart J, information collection is a total of 106,086 hours. The following chart details the individual components and estimated hour burdens. In calculating the burdens, we assumed that respondents perform certain requirements in the normal course of their activities. We consider these to be usual and customary and took that into account in estimating the burdens.

Citation 30 CFR part 250, subpart J | Reporting and recordkeeping requirement | Hour burden | Average annual responses | Annual burden hours
1000(b), 1007(a) | Submit application to install new lease-term pipeline (P/L), including exceptions/departures, consents and notices, required reports, and attachments | 140 | 256 new lease-term P/Ls | 35,840
1000(b), (d); 1007(a); 1009(a)(1), (b)(1); 1010; 1011 | Apply for P/L right-of-way (ROW) grant and installation of new ROW P/L, including exceptions/departures, consents and notices, required reports, and attachments | 140 | 152 new ROW P/Ls | 21,280
1000(b); 1007(b); 1010; 1012(b)(2), (c) | Submit application to modify lease-term or ROW P/L or ROW grant, including exceptions/departures; notify operators of deviation | 40 | 615 modifications | 24,600
1000(b); 1009(c)(9); 1014 | Apply to relinquish P/L ROW grant, including exceptions/departures. | 8 | 97 P/L ROW relinquishments | 776
1000(c)(2) | Identify in writing P/L operator on ROW if different from ROW grant holder | ¼ | 4 submissions | 1
1000(c)(3) | Mark specific point on P/L where operating responsibility transfers to transporting operator or depict transfer point on a schematic located on the facility. One-time requirement after final rule published; now part of application or construction process involving no additional burdens | 0
1000(c)(4) | Petition to MMS for exceptions to general operations transfer point description | 5 | 1 petition (none received to date.) | 5
1000(c)(8) | Request MMS recognize valves landward of last production facility but still located on OCS as point where MMS regulatory authority begins | 1 | 1 request | 1
1000(c)(12) | Petition to MMS to continue to operate under DOT regs upstream of last valve on last production facility | 40 | 1 petition (none received to date.) | 40
1000(c)(13) | Transporting P/L operator petition to DOT and MMS to continue to operate under MMS regs | 40 | 1 petition (none received to date.) | 40
1004(c) | Place sign on safety equipment identified as ineffective and removed from service | See footnote 1 |  | 0
1008(a), (c), (d), (e), (f), (h) | Notify MMS; and as requested submit procedures before performing work; and submit post-report on P/L or P/L safety equipment repair, removal from service, analysis results, or potential measurements | 16 | 620 notices/ reports | 9,920
1008(b) | Submit P/L construction report | 16 | 290 reports | 4,640
1008(g) | Submit plan of corrective action and report of remedial action | 16 | 6 plans/reports | 96
1009(b) | Submit surety bond on form MMS-2030 | ¼ | 152 forms | 38
1009(c)(4) | Notify MMS of any archaeological resource discovery | 4 | 2 discovery notices | 8
1009(c)(5) | Inform MMS of P/L ROW holder's name and address changes | Exempt under 5 CFR 1320.3(h) |  | 0
1010(a) | Apply to convert lease-term P/L to ROW grant P/L; notify operators of deviation, including various exceptions/departures | 20 | 8 conversions | 160
1011(d) | Request opportunity to eliminate conflict when application has been rejected | 1 | 1 request | 1
1013 | Apply for assignment of a ROW grant | 16 | 175 assignments | 2,800
1000-1014 | General departure and alternative compliance requests not specifically covered elsewhere in subpart J regulations | 2 | 175 requests | 350
Subtotal—Reporting |  |  | 2,557 | 100,596
1000-1008 | Make available to MMS design, construction, operation, maintenance, testing, and repair records on lease-term P/Ls ² | 2 | 130 lease-term P/L operators | 260
1005(a) | Inspect P/L routes for indication of leakage ¹, record results, maintain records 2 years ² | (³) | 170 lease-term or ROW P/L operators | 4,080
1009(c)(8) | Make available to MMS design, construction, operation, maintenance, testing, and repair records on P/L ROW area and improvements ² | 10 | 115 P/L ROW holders | 1,150
Subtotal—Recordkeeping |  |  | 415 | 5,490
Total Hour Burden |  |  | 2,972 | 106,086
¹ These activities are usual and customary practices for prudent operators.
² Retaining these records is usual and customary business practice; required burden is minimal to make available to MMS.
³ 2 per month=24.

Estimated Reporting and Recordkeeping “Non-Hour Cost” Burden: The estimated annual non-hour cost burden for the consolidated 30 CFR part 250, subpart J, information collection is a total of $370,100. Section 250.1010(a) specifies that an applicant must pay a non-refundable filing fee when applying for a pipeline right-of-way grant to install a new pipeline ($2,350) or to convert an existing lease-term pipeline into a right-of-way pipeline ($300). Under § 250.1013(b) an applicant must pay a non-refundable filing fee ($60) when applying for approval of an assignment of a right-of-way grant.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on April 1, 2002, we published a Federal Register notice (67 FR 15409) announcing that we would submit this ICR to OMB for approval. The notice provided the required 60-day comment period. In addition, § 250.199 provides the OMB control numbers for the information collection requirements imposed by the 30 CFR part 250 regulations and forms. That regulation also informs the public that they may comment at any time on the collections of information and provides the address to which they should send comments. We have received no comments in response to these efforts. The required PRA public disclosure and comment statements will be displayed on forms MMS-2030.

If you wish to comment in response to this notice, you may send your comments to the offices listed under the ADDRESSES section of this notice. OMB has up to 60 days to approve or disapprove the information collection but may respond after 30 days. Therefore, to ensure maximum consideration, OMB should receive public comments by December 16, 2002.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: September 24, 2002.
Gregory J. Gould,
Acting Chief, Engineering and Operations Division.

[FR Doc. 02-28860 Filed 11-13-02; 8:45 am]

BILLING CODE 4310-MR-P